DEPARTMENT OF ENERGY

Federal Energy Regulatory Commission

[Project No. 13562-000]

Montana Department of Natural Resources and Conservation; Notice of Competing Preliminary Permit Application Accepted for Filing and Soliciting Comments and Motions To Intervene

October 19, 2009.

On July 31, 2009, the Montana Department of Natural Resources and Conservation (MDNRC) filed an application for a preliminary permit, pursuant to section 4(f) of the Federal Power Act, proposing to study the feasibility of the Ruby River Power Project, which would be located at the existing Ruby River Dam on the Ruby River, in Madison County, Montana. The sole purpose of a preliminary permit, if issued, is to grant the permit holder priority to file a license application during the permit term. A preliminary permit does not authorize the permit holder to perform any land disturbing activities or otherwise enter upon lands or waters owned by others without the owners' express permission.

The proposed project would use the existing 111-foot-high, 846-foot-long earthen dam with spillway, and the existing 635-foot-long, 90-inch horseshoe-shaped tunnel conduit. MDNRC proposes to construct and install: (1) A new 60-inch-diameter, 635-foot-long steel liner in the existing dam outlet conduit; (2) a new 60-inch-diameter, 100-foot-long steel penstock extending to a bifurcation; (3) a new 60-inch-diameter, 50-foot-long steel penstock extending from the bifurcation to the powerhouse; (4) a new 60-inch-diameter, 50-foot-long steel conduit extending from the bifurcation to an energy dissipation structure for excess flows and bypass during turbine outages; (5) a new powerhouse containing two generating units with a combined installed capacity of 1,800 kilowatts, discharging flows into the Ruby River; (6) a new substation next to the powerhouse; (7) a new 25-kilovolt, 6,000-foot-long transmission line; (8) a new switchyard at the interconnection point with the local grid; (9) a new approximately 650-foot-long access road and bridge across the river channel; (10) a new 50-foot by 60-foot parking area; and (11) appurtenant facilities. The proposed project would have an average annual generation of 7.6 gigawatt-hours.

Applicant Contact: Kevin Smith, State Water Projects Bureau, Montana Department of Natural Resources and Conservation, 1424 9th Ave., P.O. Box 201601, Helena, MT 59620-1601; phone: (406) 444-6646.

FERC Contact: Dianne Rodman, (202) 502-6077.

Competing Application: This application competes with Project No. 13360-000 filed January 29, 2009. The May 8, 2009 notice for Project No. 13360-000 established a July 7, 2009 deadline for filing competing applications and notices of intent to file a competing application. MDNRC's notice of intent to file a competing application was timely filed on June 3, 2009, and its competing application was timely filed on July 31, 2009.

Deadline for filing comments and motions to intervene: 60 days from the issuance of this notice. Comments and motions to intervene may be filed electronically via the Internet. See 18 CFR 385.2001(a)(1)(iii) and the instructions on the Commission's Web site (http://www.ferc.gov/docs-filing/ferconline.asp) under the “eFiling” link. For a simpler method of submitting text only comments, click on “Quick Comment.” For assistance, please contact FERC Online Support at FERCOnlineSupport@ferc.gov; call toll-free at (866) 208-3676; or, for TTY, contact (202) 502-8659. Although the Commission strongly encourages electronic filing, documents may also be paper-filed. To paper-file, mail an original and eight copies to: Kimberly D. Bose, Secretary, Federal Energy Regulatory Commission, 888 First Street, NE., Washington, DC 20426.

More information about this project, including a copy of the application, can be viewed or printed on the “eLibrary” link of Commission's Web site at http://www.ferc.gov/docs-filing/elibrary.asp. Enter the docket number (P-13562) in the docket number field to access the document. For assistance, contact FERC Online Support.

Kimberly D. Bose,
Secretary.

[FR Doc. E9-25620 Filed 10-23-09; 8:45 am]

BILLING CODE 6717-01-P